DEPARTMENT OF COMMERCE

International Trade Administration

[A-588-870]

Chlorinated Isocyanurates From Japan: Postponement of Preliminary Determination of Antidumping Duty Investigation

AGENCY: Enforcement and Compliance, formerly Import Administration, International Trade Administration, Department of Commerce.

DATES: February 10, 2014.

FOR FURTHER INFORMATION CONTACT: Julia Hancock or Jerry Huang, AD/CVD Operations, Office V, Enforcement and Compliance, International Trade Administration, U.S. Department of Commerce, 14th Street and Constitution Avenue NW., Washington, DC 20230, telephone: (202) 482-1394, or (202) 482-4047, respectively.

SUPPLEMENTARY INFORMATION:

Postponement of Preliminary Determination

On September 25, 2013, the Department of Commerce (the “Department”) initiated an antidumping duty investigation on chlorinated isocyanurates from Japan.¹ The Initiation Notice stated that the Department, in accordance with section 733(b)(1)(A) of the Tariff Act of 1930, as amended (the “Act”), and 19 CFR 351.205(b)(1), would issue its preliminary determination for this investigation, unless postponed, no later than 140 days after the date of the initiation.² In addition, the Department tolled deadlines by 16 days due to the shutdown of the Federal Government.³ Thus, the preliminary determination of this antidumping duty investigation is currently due no later than February 21, 2014.

¹ See Chlorinated Isocyanurates from Japan: Initiation of Antidumping Duty Investigation, 78 FR 58997 (September 25, 2013) (“Initiation Notice”).

² Id., 78 FR 59000.

³ See “Memorandum for the Record from Paul Piquado, Assistant Secretary for Enforcement and Compliance, Deadlines Affected by the Shutdown of the Federal Government,” dated October 18, 2013.

On January 15, 2014, more than 25-days before the scheduled preliminary determination, Clearon Corp. and Occidental Chemical Corporation (hereinafter referred to as “Petitioners”) made a timely request for a 50-day postponement of the preliminary determination in this investigation, pursuant to section 733(c)(1)(A) of the Act and 19 CFR 351.205(e).⁴ Petitioners noted in their request that they require additional time to analyze and comment upon the questionnaire responses of the mandatory respondents in this investigation.

⁴ See Letter from Petitioners to the Secretary of Commerce, “Antidumping Duty Investigation of Chlorinated Isocyanurates from Japan—Petitioners' Request for Extension of Time for Preliminary Determination,” dated January 15, 2014.

The Department has found no compelling reason to deny the request and, therefore, in accordance with section 733(c)(1)(A) of the Act, the Department is postponing the deadline for the preliminary determination to no later than 206 days after the date on which it initiated this investigation (the original 140-day period plus the 16 days tolled for the shutdown of the Federal Government and a 50 day postponement). Therefore, the new deadline for issuing the preliminary determination is April 14, 2014.⁵ In accordance with section 735(a)(1) of the Act, the deadline for the final determination of this investigation will continue to be 75 days after the date of the preliminary determination, unless postponed at a later date.

⁵ The postponed deadline, calculated as 190 days from September 25, 2013 (the date of publication of the Initiation Notice) plus the 16 days tolled for the shutdown of the Federal Government, falls on April 12, 2014, a Saturday, which is not a business day. Therefore, the postponed deadline is the next business day, which is Monday, April 14, 2014. See Notice of Clarification: Application of “Next Business Day” Rule for Administrative Determination Deadlines Pursuant to the Tariff Act of 1930, As Amended. 70 FR 24533 (May 10, 2008).

This notice is issued and published pursuant to section 733(c)(2) of the Act and 19 CFR 351.205(f)(1).

Dated: January 24, 2014.
Paul Piquado,
Assistant Secretary for Enforcement and Compliance.

[FR Doc. 2014-02837 Filed 2-7-14; 8:45 am]

BILLING CODE 3510-DS-P